ENVIRONMENTAL PROTECTION AGENCY

[FRL-7381-1]

New Industry Sector Performance Program; Request for Expressions of Interest From Industry Trade Associations

AGENCY: Environmental Protection Agency.

ACTION: Solicitation of interest.

SUMMARY: The Environmental Protection Agency (EPA) is seeking expressions of interest from industry trade organizations to work with the newly reoriented sector program in the Office of Policy, Economics and Innovation (OPEI). This program will have a greater focus on environmental management systems (EMS) and actions that prompt industry-wide environmental gains. EPA would like to increase the number of industries participating in the program.

The new sector program will have staff level points-of-contact within EPA who are highly knowledgeable about specific industries. These individuals will play a liaison function among industry trade associations and companies, EPA program and regional offices, state and local governments, and other stakeholder groups. The sector points-of-contact will focus their attention primarily in two areas: Addressing regulatory or other programmatic barriers to improved environmental performance; and helping to expand the use of environmental management systems (EMS) by many willing companies in each industry.

EPA anticipates that participating industries will benefit from coordinated, cooperative, and constructive problem solving with government. The Agency will invite participating industries to engage in active dialogue, offer their own innovative ideas to reduce environmental impacts, and develop strategies to promote the use of EMS. Because industry-wide performance improvement is a goal, EPA will work with trade associations and others to find creative ways to document environmental progress and burden reductions without creating new process requirements.

EPA invites the expression of interest from industry trade associations that would like to explore working with EPA in this way. Industry leaders should consider several factors: the value of having a knowledgeable point-of-contact for their sector within EPA; the industry's potential to address the Administration's current environmental priorities—reductions in greenhouse gas emissions and smog, improved water quality and infrastructure, increased recycling of hazardous waste, and enhanced environmental protection in agriculture; and the potential to expand the voluntary use of EMS among companies in the industry.

Trade associations should communicate their interest to EPA by letter or e-mail to the contact listed below. The Agency encourages prior telephone contact and consultation. EPA would like to invite an initial group of industries to work with the Agency in this new program starting in December 2002. Additional industries may be invited to participate in the future.

DATES: Contact by October 31, 2002.

FOR FURTHER INFORMATION CONTACT: Robert Benson, Director, Sector Strategies Division (mail code 1808T), 1200 Pennsylvania Ave., NW., Washington, DC 20460. E-mail: benson.robert@epa.gov. Telephone: 202-566-2954.

Dated: September 17, 2002.
Thomas J. Gibson,
Associate Administrator for Policy, Economics and Innovation.

[FR Doc. 02-23993 Filed 9-19-02; 8:45 am]

BILLING CODE 6560-50-P